DEPARTMENT OF HEALTH AND HUMAN SERVICES

National Institutes of Health

Center for Scientific Review; Amended Notice of Meeting

Notice is hereby given of a change in the meeting of the Genetic Variation and Evolution Study Section, October 17, 2013, 8:00 a.m. to October 18, 2013, 2:00 p.m., Sheraton Delfina Santa Monica Hotel, 530 West Pico Boulevard, Santa Monica, CA 90405 which was published in the Federal Register on September 23, 2013, 78 FR 184 Pgs. 58323-58324.

The meeting will be held at the National Institutes of Health, 6701 Rockledge Dr., Bethesda, MD 20892. The meeting will start on December 16, 2013 at 10:00 a.m. and end on December 18, 2013 at 6:00 p.m. The meeting is closed to the public.

Dated: October 25, 2013.
Anna Snouffer,
Deputy Director, Office of Federal Advisory Committee Policy.

[FR Doc. 2013-25772 Filed 10-29-13; 8:45 am]

BILLING CODE 4140-01-P